DEPARTMENT OF THE INTERIOR

National Park Service

[NPS-IMR-ROMO-13765; PS.SROMO0001.01.1]

Minor Boundary Revision at Rocky Mountain National Park

AGENCY: National Park Service, Interior.

ACTION: Notification of Boundary Revision.

SUMMARY: The boundary of Rocky Mountain National Park is modified to include 31.94 acres of land donated to the United States. The land is located in Larimer County, Colorado, immediately adjacent to the current eastern boundary of Rocky Mountain National Park.

DATES: The effective date of this boundary revision is October 1, 2013.

ADDRESSES: The map depicting this boundary revision is available for inspection at the following locations: National Park Service, Land Resources Program Center, Intermountain Region, 12795 West Alameda Parkway, Denver, Colorado 80228, and National Park Service, Department of the Interior, 1849 C Street NW., Washington, DC 20240.

FOR FURTHER INFORMATION CONTACT: Chief Realty Officer Glenna Vigil, National Park Service, Land Resources Program Center, Intermountain Region, 12795 West Alameda Parkway, Denver, Colorado 80228, telephone (303) 969-2610.

SUPPLEMENTARY INFORMATION: Notice is hereby given that, pursuant to 16 U.S.C. 460l-9(c)(1), the boundary of Rocky Mountain National Park is modified to include 31.94 acres of donated land identified as Tract 02-171, tax parcel number 35224-39-901. The land is located in Larimer County, Colorado, immediately adjacent to the current eastern boundary of Rocky Mountain National Park. The boundary revision is depicted on Map No. 121/108,929B dated May 2013.

16 U.S.C. 460l-9(c)(1) provides that, after notifying the House Committee on Natural Resources and the Senate Committee on Energy and Natural Resources, the Secretary of the Interior is authorized to make this boundary revision upon publication of notice in the Federal Register. The Committees have been notified of this boundary revision. The inclusion of this land donated by Rocky Mountain National Park Associates, Inc., a nonprofit organization that supports land protection projects at the park, will contribute to the preservation and protection of park and trail resources.

Dated: August 22, 2013.
John Wessels,
Regional Director, Intermountain Region.

[FR Doc. 2013-23924 Filed 9-30-13; 8:45 am]

BILLING CODE 4312-CB-P